DEPARTMENT OF HEALTH AND HUMAN SERVICES

National Institutes of Health

National Institute of Allergy and Infectious Diseases; Amended Notice of Meeting

Notice is hereby given of a change in the meeting of the National Advisory Allergy and Infectious Diseases Council, September 19, 2011, 8:30 a.m. to September 19, 2011, 5 p.m., National Institutes of Health, Natcher Building, 45 Center Drive, Conference Rooms E1/E2, Bethesda, MD, 20892 which was published in the Federal Register on February 7, 2011, 76 FR 6627.

The afternoon meeting of the Acquired Immunodeficiency Syndrome Subcommittee will be open to the public from 1 p.m. to adjournment. It was erroneously published as a closed meeting.

Dated: February 17, 2011.
Jennifer S. Spaeth,
Director, Office of Federal Advisory Committee Policy.

[FR Doc. 2011-4173 Filed 2-23-11; 8:45 am]

BILLING CODE 4140-01-P